AGENCY FOR INTERNATIONAL DEVELOPMENT

Agency Information Collection Activities: Proposed Collection: Public Comment Request

AGENCY: U.S. Agency for International Development.

ACTION: Notice of information collection.

SUMMARY: U.S. Agency for International Development (USAID), as part of its continuing effort to reduce paperwork and respondent burden, invites the general public and other Federal agencies to take this opportunity to comment on the following new information collection, as required by the Paperwork Reduction Act of 1995. Comments are requested concerning whether the proposed or continuing collections of information are necessary for the proper performance of the functions of the agency, including whether the information shall have practical utility; the accuracy of the burden estimates; ways to enhance the quality, utility, and clarity of the information collected; and ways to minimize the burden of the collection of the information on the respondents.

DATES: All comments should be submitted within 60 calendar days from the date of this publication.

ADDRESSES: Interested persons are invited to submit comments regarding the proposed information collection to Jennifer Cupp, USAID, Bureau for Food Security, at jcupp@usaid.gov.

FOR FURTHER INFORMATION CONTACT: Jennifer Cupp, USAID, Bureau for Food Security, jcupp@usaid.gov.

SUPPLEMENTARY INFORMATION: When submitting comments or requesting information, please include the information request collection title for reference.

OMB No. ###

Information Collection Request Title: U.S. Government Feed the Future Initiative Audience Segmentation Survey.

Abstract: The “USAID National Survey of U.S. Adults about Global Food Security” is a 20-minute nationally-representative survey of U.S. adults conducted for USAID by a professional research company. The purpose of the research is to inform the communications strategy, education, and outreach efforts for the Feed the Future Initiative. The research contractor will gather information and feedback by telephone and online from 1,000 voluntary adult participants using a nationally representative survey sampling method. Using the information collected in the survey, the research consultant will measure opinions about global food security and hunger, program awareness, reasons for improving global food security and reducing hunger, questions and concerns about the initiative, as well as consumer segments and insights for each segment to more effectively hone communication, education and outreach efforts.

Likely Respondents: This study includes one respondent group, U.S. adults 18 years and older living in the fifty states and the District of Columbia.

Burden Statement: Burden in this context means the time expended by persons to generate, maintain, retain, disclose or provide the information requested. This includes the time needed to review instructions and survey screening criteria; to develop, acquire, install and utilize technology and systems for the purpose of providing opinions and feedback; to be able to respond to and complete the collection of information; and to transmit or otherwise disclose the information. The total annual burden hours estimated are summarized in the table below.

Estimated Annualized Burden Hours
Form name | Number of respondents | Number of responses per respondent | Total responses | Average burden per response (in hours) | Total burden hours
Feed the Future Initiative Audience Segmentation | 1,000 | 1 | 1,000 | .333 | 333
Screened households | 1,200 | 1 | 1,200 | .0167 | 20.04
Total |  |  | 3,200 |  | 353.04

USAID specifically requests comments on (1) the necessity and utility of the proposed information collection for the proper performance of the agency's functions; (2) the accuracy of the estimated burden; (3) ways to enhance the quality, utility, and clarity of the information to be collected; and (4) the use of automated collection techniques or other forms of information technology to minimize the information collection burden.

Comments submitted in response to this notice will be summarized and included in the request for OMB approval of this information collection. The comments will also become a matter of public record.

Dated: July 31, 2019.
Jennifer Cupp,
Communications Director, Feed the Future, U.S. Agency for International Development.

[FR Doc. 2019-19209 Filed 9-5-19; 8:45 am]

BILLING CODE 6116-01-P